DEPARTMENT OF COMMERCE

International Trade Administration

Notice of Scope Rulings

AGENCY: Enforcement and Compliance, International Trade Administration, Department of Commerce.

DATES: Applicable June 6, 2018.

SUMMARY: The Department of Commerce (Commerce) hereby publishes a list of scope rulings and anticircumvention determinations made between January 1, 2017, and March 31, 2017, inclusive. We intend to publish future lists after the close of the next calendar quarter.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that the Secretary will publish in the Federal Register a list of scope rulings on a quarterly basis.¹ Our most recent notification of scope rulings was published on May 22, 2018.² This current notice covers all scope rulings and anticircumvention determinations made by Enforcement and Compliance between January 1, 2017, and March 31, 2017, inclusive. Three additional subsequent lists will immediately follow to bring these quarterly notices up to date.

¹ See 19 CFR 351.225(o).

² See Notice of Scope Rulings, 83 FR 23634 (May 22, 2018).

Scope Rulings Made Between January 1, 2017, and March 31, 2017

Socialist Republic of Vietnam

A-552-818 and C-552-819: Certain Steel Nails From the Socialist Republic of Vietnam

Requestor: OMG, Inc; zinc anchors which are designed to attach termination bars to concrete or masonry walls are within the scope of the antidumping and countervailing duty orders; February 6, 2017.

People's Republic of China

A-570-901: Lined Paper Products From the People's Republic of China

Requestor: Blue Sky the Color of Imagination LLC.; eight styles of office planners/calendars are not covered by the scope of the antidumping order on certain lined paper products from the People's Republic of China because the products meet exclusion criteria contained in the scope for products generally known as “office planners” and “appointment books;” March 23, 2017.

A-570-881: Malleable Cast Iron Pipe Fitting From the People's Republic of China

Requestor: Atkore Steel Components, Inc.; cast iron electrical conduit articles are subject to the scope of the order on malleable cast iron pipe fitting from the People's Republic of China; March 16, 2017.

A-570-020 and C-570-021: Melamine From the People's Republic of China

Requestor: JLS Chemical Inc.; certain melamine-based flame retardant products (i.e., melamine cyanurate, melamine polyphosphate, and ammonium-melamine-piperazine polyphosphate) are not subject to the orders on melamine from the People's Republic of China because the melamine raw material used to create these compounds is not intermingled or blended with other constituent chemicals but, rather, chemically-reacted with the other feedstock resulting in different products; February 22, 2017.

A-570-970 and C-570-971: Multilayered Wood Flooring From the People's Republic of China

Requestor: Jiangsu Keri Wood Co., Ltd. (Keri Wood); Keri Wood's two-layer wood flooring panel is not within the scope of the orders on multilayered wood flooring from the PRC because it lacks the requisite two or more layers or plies of wood veneer in combination with a core; January 6, 2017.

A-570-970 and C-570-971: Multilayered Wood Flooring From People's Republic of China

Requestor: Huzhou Zhanbang Industry Co., Ltd.; wood flooring product of a two-layer construction composed of one layer or ply of wood veneer in combination with a finger-jointed board is not covered by the scope of the antidumping and countervailing duty orders on multilayered wood flooring from the People's Republic of China because it lacks the requisite two or more layers or plies of wood veneer in combination with a core; February 21, 2017.

A-570-970 and C-570-971: Multilayered Wood Flooring From People's Republic of China

Requestor: Geenlong International Limited; wood flooring product of a two-layer construction composed of one layer or ply of wood veneer in combination with an Oriented Strand Board core is not covered by the scope of the antidumping and countervailing duty orders on multilayered wood flooring from the People's Republic of China because it lacks the requisite two or more layers or plies of wood veneer in combination with a core; February 21, 2017.

A-570-970 and C-570-971: Multilayered Wood Flooring From People's Republic of China

Requestors: Fusong Jinlong Wood Group Co., Ltd.; Fusong Qianqiu Wooden Product Co., Ltd.; Dalian Qianqiu Wooden Product Co., Ltd.; and Fusong Jinqiu Wooden Product Co., Ltd.; wood flooring product composed of a single thin solid wood layer glued to a single solid wood bottom layer is not covered by the scope of the antidumping and countervailing duty orders on multilayered wood flooring from the People's Republic of China because it lacks the requisite two or more layers or plies of wood veneer in combination with a core; February 21, 2017.

A-570-970 and C-570-971: Multilayered Wood Flooring From People's Republic of China

Requestor: Complete Flooring Supply Corporation; wood flooring product composed of two or more outer plies of exotic wood species laminated to a wooden core is covered by the scope of the antidumping and countervailing duty orders on multilayered wood flooring from the People's Republic of China because it contains the requisite two or more layers or plies of wood veneer in combination with a core, irrespective of wood species; March 31, 2017.

A-570-875: Non-Malleable Cast Iron Pipe Fittings From the People's Republic of China

Requestor: Hydroflo Pumps USA, Inc. (Hydroflo Pumps); hydroflo Pumps's oil tube adapters are outside the scope of the Order on Non-Malleable Cast Iron Pipe Fittings from the People's Republic of China because they are not covered by the language of the scope. March 24, 2017.

A-570-922 and C-570-923: Raw Flexible Magnets From the People's Republic of China

Requestor: Anna Griffin Inc. (Anna Griffin); Anna Griffin's magnetic sheets for metal paper-cutting dies are outside the scope of the order on flexible magnets from the PRC because they fall within the exclusion to the scope of the order. This because the magnets in the product are permanently bonded with paper that is printed with text and decorative motifs; March 13, 2017.

A-570-860: Steel Concrete Reinforcing Bars From China

Requestor: Southern Wire Co., LLC.; epoxy coated rebar is not subject to the scope of the order on steel concrete reinforcing bars from the People's Republic of China because the rebar has been further processed through coating; March 2, 2017.

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: May 31, 2018.
James Maeder,
Associate Deputy Assistant Secretary for Antidumping and Countervailing Duty Operations performing the duties of Deputy Assistant Secretary for Antidumping and Countervailing Duty Operations.

[FR Doc. 2018-12143 Filed 6-5-18; 8:45 am]

BILLING CODE 3510-DS-P